DEPARTMENT OF TRANSPORTATION

Office of the Secretary

14 CFR Parts 217, 234, 241, 248, 250, 291, 298, and 385

[Docket No. OST 2006-26053]

RIN 2139-AA11

Submitting Airline Data via the Internet

AGENCY: Office of the Secretary, DOT.

ACTION: Final rule.

SUMMARY: The U.S. Department of Transportation requires U.S. air carriers to submit their recurrent financial, traffic, operational and consumer data reports electronically via the Internet using the comma separated value (CSV) file format or a PDF file for reports that are not entered into a database such as signed certifications, transmittal letters, and annual reports. This rule will enhance security of the data submissions, eliminate air carriers' fax and mailing costs, eliminate the need for the Department to manually enter hardcopy data submissions, and provide reporting air carriers with immediate notification and a receipt from the Department that the report was received. This action is taken on the Department's initiative.

DATES: Effective Date: October 1, 2010.

FOR FURTHER INFORMATION CONTACT: Bernie Stankus, Office of Airline Information, RTS-42, Bureau of Transportation Statistics, Research and Innovative Technology Administration, 1200 New Jersey Avenue, SE., Washington, DC 20590-0001, Telephone Number (202) 366-4387, Fax Number (202) 366-3383 or e-mail bernard.stankus@dot.gov.

SUPPLEMENTARY INFORMATION:

Electronic Access

A copy of the proposed rule, copies of the public comments, and an electronic copy of this final rule may be downloaded at http://www.regulations.gov, by searching docket OST 2006-26053.

Background

Receiving and processing aviation data are essential business processes for the Department of Transportation (DOT). To increase data collection and processing efficiencies and reduce the burden and costs of the filing process for both the air carriers and the government, all recurrent aviation data, that are collected by the Research and Innovative Technology Administration's (RITA's) Bureau of Transportation Statistics (BTS), must be submitted electronically (e-filing). The new e-filing system is designed to be user friendly. E-filing via the Internet is more secure than submitting files as attachments to e-mails. Carrier-designated personnel will be given a user name and password that will enable them to access the BTS e-filing system and meet their reporting obligations by either attaching a comma separated value or PDF file. To assist U.S. and foreign air carriers that may not be familiar with the CSV file format, BTS is providing on its Web site downloadable Excel forms that the air carriers may complete and save in the CSV format to meet the filing requirements. A significant advantage of e-filing is that it does not have the size limit constraints encountered by attachments to e-mail submissions. E-filing provides the submitters with a confirmation acknowledgement and a receipt that the filing has been received by BTS. E-filing will eliminate the need for BTS to manually enter hardcopy records into its various databases. E-filing also reduces the possibility of human error in manual data entry.

Comments

The Department issued a notice of proposed rulemaking to require airlines to submit their recurrent financial, traffic, operational, and consumer reports to BTS via the Internet on December 20, 2006, (71 FR 76226). Comments were received from Air Transport Association of America, Inc. (ATA); United Parcel Service, Co. (UPS); American Airlines, Inc.; Eugene M. Schulman; Miller, Hamilton, Snider & Odom, LLC; and Ameristar Air Cargo. On January 12, 2007, following a telephonic inquiry by Ruel Lacanienta, a senior analyst with American Airlines, American Airlines sent its comments to RITA in an e-mail submission. RITA placed the American Airlines comments in the docket.

The comments, with the exception of Miller, Hamilton, Snider & Odom, fully support the Department's proposal to collect aviation data via the Internet.

ATA believes that: (1) BTS should be able to release aviation data to the public on a timelier schedule by eliminating the need to manually enter data. (2) Since the Department has proposed a phased e-filing requirement for the various data collections, carriers should be given 90-days advance notice with the relevant technical and process details to comply with the filing deadline. (3) The Department should incorporate a data submission grace period as new data sets become subject to e-filing in case of unforeseen problems. (4) Respondents should receive immediate confirmation of data transmittal success or failure. (5) Confidentiality in the data transfer process should be maintained and the Department should ensure its ability to hold certain data elements confidential, as is done today when specific types of data are filed with petitions for confidential treatment. (6) The Department should hold a stakeholder meeting before the new requirements are implemented.

The Department is in agreement with most of ATA's comments. BTS anticipates a reduction in the time to process the quarterly financial data. However, the reduction in the processing time may not be immediate. We anticipate that the reduction should be realized within three reporting cycles. International T-100 and T-100(f) traffic data are restricted from public release for a 6-month period; therefore, while e-filing will reduce processing time, e-filing will not advance the public release of international traffic data. U.S. air carrier traffic data between two foreign points are restricted from public release for three years, so e-filing will not impact the release of these data. We do not anticipate reducing the lag time for the release of on-time data, which are already released on an accelerated basis.

We agree with the ATA request for a 90-day lead time for implementation of the rules requirements for e-filing. The reporting elements are not changing and the Department will only be requiring the use of a comma separated values (CSV) or portable document format (PDF) file format in submitting the same data elements that are now being reported. CSV is a delimited data format that has fields/columns separated by the comma character and records/rows separated by new lines. The Department believes that this change in reporting does not represent a significant burden for the affected air carriers. The 90-day lead time will allow carriers to test their new data transmission procedures.

The ATA commented that there could be “unforeseen problems” with the e-filing system and asked DOT incorporate a grace period for each filing deadline. Section 385.19(f), delegates the Director of the Office of Airline Information (OAI), BTS, authority to grant air carriers extensions of the due dates for filing required aviation reports. In response to the ATA comment, the Department is amending part 385.19(f) to include foreign air carriers to that delegated authority so that foreign air carriers may also file a request for an extension. This will help assure that the administrative process provides all carriers sufficient lead time to convert to the CSV format. If an air carrier or foreign air carrier encounters unforeseen problems that will delay the implementation of e-filing, an affected carrier may submit a request for an extension of the scheduled due date. As a reminder, the regulations require that requests for filing extensions must be submitted at least 3 days in advance of the report's due date.

As to ATA's comment that respondents should receive immediate confirmation of data transmittal success or failure, the e-filing system is designed so that the submitter of reports will receive an immediate confirmation that the reports were received. It should be noted that carriers that submit an “acceptable” report may later be directed to revise the report due to errors identified in an in-depth data quality review performed by the BTS data administrators.

In its comments, ATA noted that confidentiality in the data process should be maintained and the Department should be able to ensure that certain data elements remain confidential, as is done today.

The Department agrees with ATA that the current treatment of confidential data should be retained in the new system for transmitting data. Also, UPS requests clarification of the treatment of confidential information including the airframe and aircraft engine cost data reported on Form 41, Schedules B-43 Inventory of Airframes and Aircraft Engines and B-7 Airframes and Aircraft Engines Acquisitions and Retirements.

The e-filing system will not adversely affect the public withholding of confidential data. It will, however, result in a burden reduction for air carriers requesting confidential treatment, by relieving them of the requirement to submit a redacted version of their data submission. Under the e-filing system, the party requesting confidential treatment will submit a formal motion for confidential treatment to both DOT Dockets and the appropriate DOT Group E-mail Address for the affected data base. These e-mails will alert the public, through Dockets, that confidential treatment has been requested and the data base administrator that special handling of the data submission is required. Motions for confidential treatment must continue to adhere to the requirements found in DOT's Rules of Practice in Proceedings, which are contained in Title 14 of the Code of Federal Regulations Part 302.12, Objections to public disclosure of information. After submitting the motion for confidential treatment, the air carrier will transmit a complete e-file data submission that contains both confidential and non-confidential data. BTS will then validate the entire file and withhold the designated confidential data from public release pending a decision from DOT on the carrier's motion.

The E-mail Addresses for contacting the data base administrators are:

298c.Support@dot.gov | (PART 298—Form 298-C Financial reports).
F41Financials.Support@dot.gov | (PART 241—Form 41 Financial reports).
ODsurvey.Support@dot.gov | (PART 241—Passenger Origin & Destination Survey reports).
OnTime.Support@dot.gov | (PART 234—ASQP `On-Time' and `Mishandled Baggage' reports).
Form251.Support@dot.gov | (PART 251—Passengers Denied Confirmed Space—denied boarding—reports).
T100f.Support@dot.gov | (PART 217—Form 41 Schedule T100(f) Foreign Air Carrier Traffic reports).
T100.AK.Support@dot.gov | (Alaskan Air Carrier WEEKLY T100 reports).
T100.Support@dot.gov | (PART 241—Form T100 U.S. Air Carrier Traffic reports).
Form291.Support@dot.gov | (PART 291—Statement of Operations—Section 41103 Operations reports).
Part248Audit.Support@dot.gov | (PART 248—Annual Audit reports).
OAI.eSubmit.Support@dot.gov | (To request a user account and other general inquiries).

The Department agrees with ATA's comment as to the value of holding a stakeholders meeting prior to the initial submission of data. We will schedule a meeting for reporting carriers at the DOT Headquarters Building and announce the meeting in the Federal Register. An E-filing User Guide and other instructional materials will be distributed at the meeting and the material also will be available on the BTS Web site at: http://www.bts.gov/programs/airline_information/efiling.

American Airlines supports the Department's e-filing initiative and requests that the Department offer the secure file transfer protocol (SFTP) for delivery of large files to reduce the manual intervention required for large files. While this mode of delivery is not currently available due to higher workload priorities and limited staff resources, BTS does plan to implement the SFTP mode of delivery in the future.

The Director of Operations at Ameristar Air Cargo commented that e-filing is a long overdue convenience for the airlines.

Lester Bridgeman of the law firm Miller, Hamilton, Snider & Odom commented that the notice of proposed rulemaking (NPRM) includes no specific e-filing formats for foreign air carriers. Mr. Bridgeman has concerns that the NPRM may not be in compliance with 5 U.S.C. sec. 553(b)(3) which requires a NPRM to provide either the term or the substance of the proposed rule or a description of the subjects and issues involved.

DOT believes it met the requirements of 5 U.S.C. 553(b)(3). In the NPRM, the Department proposed two options for foreign air carriers to submit their T-100(f) reports via the Internet. The carriers could either complete the schedule on a Web-based form, or they could attach a file when they log into the new system. The substance of the NPRM was that carriers would be required to submit their reports to DOT through a secured Internet site. There is no change to the underlying reporting elements.

In the final rule, BTS decided that foreign carriers will be required to submit their reports through a secured Internet site using a comma separated value (CSV) file format. To assist foreign air carriers that may be unfamiliar with CSV files, BTS is placing a downloadable spreadsheet with the required data elements for the Schedule T-100(f) report on the RITA Web site along with documentation on the required file format and file naming convention. Foreign carriers may populate the spreadsheet and save it in the CSV format, and attach the saved file for e-filing.

The schedule for implementing e-filing is:

October 1, 2010

(1) Part 234 Airline Service Quality Performance (ASQP) reports (both on-time data and mishandled baggage reports—due November 15, 2010.

(2) Part 217 T-100(f)—Foreign Air Carrier Traffic Data by Nonstop Segment and on-Flight Market—due November 30, 2010.

(3) Part 241 T-100—U.S. Air Carrier Traffic and Capacity Data by Nonstop Segment and On-Flight Market—due November 30, 2010.

(4) Part 241 Passenger Origin-Destination Survey Report—due February 15, 2011.

(5) Part 241 Form 41 schedules:

P-12(a) Fuel Consumption by Type of Service and Entity—due November 20, 2010.

P-1(a) Interim Operations Report—due November 30, 2010.

P-10 Employment Statistics by Labor Category—due February 20, 2011.

A Certification (PDF file)—due February 10, 2011.

B-1 and B-1.1 Balance Sheet—due February 10, 2011.

P-1.1 and P-1.2 Statement of Operations—due February 10, 2011.

P-2 Notes to BTS Form 41 Report (PDF file)—due February 10, 2011.

P-5.1 and P-5.2 Aircraft Operating Expenses—due February 10, 2011.

P-6 Operating Expenses by Objective Groupings—due February 10, 2011.

P-7 Operating Expenses by Functional Groupings—due February 10, 2011.

B-7 Airframe and Aircraft Engine Acquisitions and Retirements—due February 10, 2011.

B-12 Statement of Changes in Financial Position (PDF file)—due February 10, 2011.

T-8 Report of All-Cargo Operations—due March 30, 2011.

B-43 Inventory of Airframes and Aircraft Engines—due March 30, 2011.

(6) Part/Form 251—Report of Passengers Denied Confirmed Space—due January 30, 2011.

(7) Part/Form 291—A Statement of Operations for Section 41103 Operations—due February 10, 2011.

January 1, 2011

(1) Part/Form 248—Audit Reports—the earliest carriers are required to report via e-filing is February 15, 2011.

(2) Part 298 Form 298-C, Schedules F-1—Report of Financial Data, and F-2—Report of Aircraft Operating Expenses and Related Statistics—May 10, 2011.

Part 248 Audit Reports are due at BTS within 15 days after the due date of the appropriate periodic BTS Form 41 report filed for the 12-month period covered by the audit report or the date the accountant submits an audit report to the air carrier, whichever is later.

Carriers may volunteer to start e-filing before the dates listed above by contacting the e-mail address for the data base administrator. BTS welcomes carriers to submit a trial version of e-filing before the initial due date for required e-filing submission. In order to retain consistent data, carriers will submit their reports both by e-filing and their current mode of delivery until one cycle of the e-filed report is completed successfully. Once completed successfully, e-filing will be the only accepted means of delivery.

Selected Alaskan carriers are currently participating in an e-filing pilot program for submitting their T-100 traffic data. These carriers are allowed to logon to the RITA Web site and electronically submit T-100 market and/or segment data. The Web application uploads the files to an isolated secure location on a Pilot Server, logs the receipt, and sends an acknowledgement to the submitter.

Depending on the form, an air carrier will attach either a CSV or PDF file to meet its reporting obligation. For “free form” reports, such as the BTS Schedule B-12, Statement of changes in Financial Position, and P-2 Notes to BTS Form 41, carriers will attach a PDF file to meet their reporting obligations. The signed certifications for Forms 41 and 298-C, the On-time Data and Mishandled Baggage Reports certification and transmittal letters, and the transmittal letter for the Passenger Origin-Destination Survey will also be delivered as PDF files.

An Accounting and Reporting Directive that specifies the required file format is being published with the final rule.

The e-filing system performs user authentication, validates filer information and checks the file name extension for the format of the data to be uploaded, uploads the files to an isolated secure location, logs the receipt of the data report, and transmits an acknowledgement of receipt to the sender. The URL of the BTS E-Filing Center is http://eSubmit.rita.dot.gov. The URL will automatically redirect the user to a secure portal (http).

In updating the regulatory language in Appendix A to SEC. 19-7—INSTRUCTIONS TO AIR CARRIERS FOR COLLECTING AND REPORTING PASSENGER ORIGIN-DESTINATION SURVEY STATISTICS, the Department is removing the language in the Appendix which referred to “magnetic tapes” and ADP (automatic data processing) instructions. Technology advances have rendered this regulatory language obsolete and thus, the Department is removing the obsolete language. In addition, in updating the regulatory language in 14 CFR Part 241.25, the Department is removing the portion of the Appendix that contains instructions pertaining to magnetic tape specifications, record layouts for microcomputer diskettes and mainframe reporting. Technology advances have rendered this regulatory language obsolete and thus, the Department is removing the obsolete language. The Department is moving the two remaining paragraphs, the discussion of reporting concept (paragraph l) and joint-service operations (paragraph i), to 14 CFR 241.19-2.

Statutory and Executive Order Reviews

A. Executive Order No. 12866: Regulatory and Planning Review

Under Executive Order No. 12866, (58 FR 51735, October 4, 1993) the Agency must determine whether the regulatory action is “significant” and therefore subject to Office of Management and Budget (OMB) review and the requirements of the Executive Order. The Order defines “significant regulatory action” as one that is likely to result in a rule that may (1) have an annual effect on the economy of $100 million or more or adversely affect in a material way the economy, a sector of the economy, productivity, competition, jobs, the environment, public health or safety, or State, local, or Tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

It has been determined that this proposed action is not a “significant regulatory action” under Executive Order No. 12866 and was not reviewed by OMB.

B. Paperwork Reduction Act

This action does not add any additional reporting burden to air carriers, as the reported elements are unchanged. In fact, this rule will lessen the compliance costs for Respondents by reducing Respondents' mailing costs. In addition, this action will enhance data security and save government costs by eliminating the need for the BTS to manually enter hardcopy data submissions. Finally, this rule will provide air carriers with immediate submission notification and a receipt that the BTS has received the data.

C. Regulatory Flexibility Act

The Regulatory Flexibility Act generally requires an agency to prepare a regulatory flexibility analysis of any rule subject to notice-and-comment rulemaking requirements under the Administrative Procedure Act or any other statute unless the agency certifies that the rule will not have a significant economic impact on a substantial number of small entities.

I certify that no small entity will experience a significant adverse economic impact from this rule.

D. Executive Order 12612

This rule has been analyzed in accordance with the principles and criteria in Executive Order 12612 (“Federalism”) and BTS has determined that this rule does not have sufficient federalism implications to warrant the preparation of a Federalism Assessment.

E. Trade Agreements Act

This act prohibits agencies from setting standards that create unnecessary obstacles to foreign commerce of the United States. The department has taken special steps to ease the transition for foreign air carriers to e-submission. BTS is providing a Web application which the carrier may use to save data in the CSV format for e-submission. E-submission should reduce air carrier compliance costs.

F. Unfunded Mandates Reform Act of 1995

This Act requires agencies to prepare written assessment of costs, benefits, and other effects of a proposed rule that include a Federal mandate likely to result in the expenditure by State, local, or Tribal government. This rule imposes no expenditures on State, local, or Tribal government.

G. Regulation Identifier Number

A regulation identifier number (RIN) is assigned to each regulatory action listed in the Unified Agenda of Federal Regulations. The Regulatory Information Service Center publishes the Unified Agenda each April and October. The RIN Number 2139-AA11 contained in the heading of this document can be used to cross reference this action with the Unified Agenda.

Cost/Benefit Analysis

The benefits of e-filing primarily lie in business process improvement, data quality improvement, strengthened security, and automatic notification to late filers. As the system rolls out, the following savings are anticipated:

Air carriers that use a delivery service to deliver the required reports to BTS will save the cost of that service. BTS estimates the industry savings at $1,095 annually (100 submissions at an average cost of $10.95 per submission). Most carriers will use their Web browsers to download their reports to BTS, thus, reducing work-time by eliminating the need to type hard copy reports and address and package the submission.

RITA/BTS savings are estimated at one fourth of a full-time employee (FTE) for a data administrator or approximately $65,000 (GS 11 salary and operations cost) and an additional $165,000 savings in data processing and data administration manually keying data.

Qualitatively, the e-filing project aims to lay the foundation for continuous data quality management through process improvements utilizing automatic editing of the electronically submitted data. Other benefits of the new system are: (1) Filings will be performed electronically using an e-filing portal. (2) There will be a standardized CVS file format. (3) Carriers will receive an automated receipt when files are submitted. (4) BTS will reduce the time needed to load carrier submissions into data bases. (5) There will be an automatic log and submission record management system, including e-mail capability and a Web application to display the submission status, track the submitted data (including originals and revisions), and log in major events in processing. (6) Automatic e-mails will alert air carriers when they have a delinquent report.

List of Subjects in 14 CFR Parts 217, 241, 250, 291, and 298

Administrative practices and procedures, Air carriers, Air taxis, Consumer Protection, Freight, Reporting and recordkeeping requirements, and Uniform system of accounts.

Accordingly, the Department of Transportation amends 14 CFR Chapter II as follows:

PART 217—[AMENDED]

1. The authority citation for part 217 is revised to read as follows:

Authority: 49 U.S.C. 329 and chapters 41102, 41301, 41708, and 41709.

2. In § 217.3, paragraph (e) is revised to read as follows:

§ 217.3 Reporting requirements.

* * * * *

(e) Reports required by this section shall be submitted to the Bureau of Transportation Statistics in a format specified in accounting and reporting directives issued by the Bureau of Transportation Statistics' Director of Airline Information.

3. In § 217.10:

a. Paragraphs (a) and (b) are revised;

b. Paragraph (a)(3) of the appendix is revised;

c. Paragraph (a)(7) of the appendix is removed and reserved;

d. Paragraph (e) introductory text of the appendix is revised; and

e. Paragraphs (f) and (j) are removed and reserved.

The revisions read as follows:

§ 217.10 Instructions.

(a) Reports required by this section shall be submitted to the Bureau of Transportation Statistics in a format specified in accounting and reporting directives issued by the Bureau of Transportation Statistics' Director of Airline Information.

(b) The detailed instructions for preparing Schedule T-100(f) are contained in the appendix to this section.

Appendix to Section 217.10 of 14 CFR Part 217—Instructions to Foreign Air Carriers for Reporting Traffic Data on Form 41 Schedule T-100(F)

(a) * * *

(3) Reports required by this section shall be submitted to the Bureau of Transportation Statistics in a format specified in accounting and reporting directives issued by the Bureau of Transportation Statistics' Director of Airline Information.

* * * * *

(e) Preparation of Schedule T-100 (f):

* * * * *

PART 241—[AMENDED]

4. The authority citation for part 241 is revised to read as follows:

Authority: 49 U.S.C. 329 and chapters 41101, 41708, and 41709.

5. Section 1-8 is revised to read as follows:

Sec. 1-8 Address for reports and correspondence.

Reports required by this section shall be submitted to the Bureau of Transportation Statistics in a format specified in accounting and reporting directives issued by the Bureau of Transportation Statistics' Director of Airline Information.

6. Section 19-1 (c) is revised to read as follows:

Sec. 19-1 Applicability.

* * * * *

(c) Reports required by this section shall be submitted to the Bureau of Transportation Statistics in a format specified in accounting and reporting directives issued by the Bureau of Transportation Statistics' Director of Airline Information.

* * * * *

7. Section 19-2 is amended by adding paragraphs (d), (e), and (f) to read as follows:

Sec. 19-2 Maintenance of data.

* * * * *

(d) Schedule T-100 collects summarized flight stage data and on-flight market data. All traffic statistics shall be compiled in terms of each revenue flight stage as actually performed. The detail T-100 data shall be maintained in a manner permitting monthly summarization and organization into two basic groupings: The nonstop segment information that must be summarized by equipment type, within class of service, within pair-of-points, without regard to individual flight numbers. The second grouping requires that the enplanement/deplanement information be broken out into separate units called “on-flight market records.” These records must be summarized by class of service, within pair-of-points, without regard for equipment type or flight number.

(e) The Department may authorize joint-service operations between two direct air carriers. Examples of these joint-services are blocked-space agreements, part-charter agreements, code-share agreements, wet-lease agreements, and other similar arrangements. Joint services operations are reported by the air carrier in operational control of the aircraft. The traffic moving under these agreements is reported on Schedule T-100 the same way as any other traffic on the aircraft.

(f) Any questions regarding T-100 should be e-mailed to T100.Support@dot.gov.

8. Section 19-7 is amended by:

a. Adding a new sentence to the end of paragraph (a);

b. Revising paragraph (b);

c. Revising appendix A to section 19-7 introductory text;

d. Revising paragraph C, removing and reserving paragraph D, and revising paragraph E of section IV of Appendix A to section 19-7;

e. Revising paragraph B of section VI of Appendix A to section 19-7; and

f. Removing and reserving sections IX and XI of Appendix A to section 19-7.

The addition and revisions read as follows:

Sec. 19-7 Passenger origin-destination survey.

(a) * * * Copies of these Instructions and Directives are available on the BTS Web page at (http://www.bts.gov/programs/airline_information/).

(b) Reports required by this section shall be submitted to the Bureau of Transportation Statistics in a format specified in accounting and reporting directives issued by the Bureau of Transportation Statistics' Director of Airline Information.

* * * * *

Appendix A to § 19-7—Instructions to Air Carriers for Collecting and Reporting Passenger Origin-Destination Survey Statistics

All questions, comments, extension and waiver requests should be e-mailed to ODsurvey.Support@dot.gov.

* * * * *

IV. Submission of Reports

* * * * *

C. Format of the Report. Reports required by this section shall be submitted to the Bureau of Transportation Statistics in a format specified in accounting and reporting directives issued by the Bureau of Transportation Statistics' Director of Airline Information.

D. [Reserved]

E. All reports shall be filed with the Bureau of Transportation Statistics in a format specified in accounting and reporting directives issued by the Bureau of Transportation Statistics' Director of Airline Information.

* * * * *

VI. Summarization of Recorded Data

* * * * *

B. Rules for Summarization. Sort the recorded entries into sequence by the entire record (excluding the passenger field) i.e., by origin, complete routing (including fare-basis codes), tickets destination, and dollar value of ticket. All identical records are then to be combined into one summary record. The number of passengers on the summary record is to be the sum of the passenger amounts of all the individual records combined. Passengers are only summarized where records are identical in all respects except in the number of passengers including dollar value of ticket. Note: Do not summarize dollars over identical records. This summarization is to include the entries from group tickets, but only after the entries for group tickets with 11 or more passengers have been summarized and divided by 10, as stated in Section V.D.(2)(d).

* * * * *

Section 21 [Amended]

9. In section 21, paragraphs (e) and (f) are removed and reserved.

10. Section 23, schedule B-12, is amended by adding paragraph (i) to read as follows:

Section 23 Certification and Balance Sheet Elements

* * * * *

Schedule B-12—Statement of Cash Flows

* * * * *

(i) Carriers shall submit Schedule B-12 in a format specified in accounting and reporting directives issued by the Bureau of Transportation Statistics' Director of Airline Information.

* * * * *

11. Section 24, Schedule P-2, paragraph (a) is revised to read as follows:

Section 24 Profit and Loss Elements

* * * * *

Schedule P-2—Notes to BTS Form 41 Report

(a) This schedule shall be filed quarterly by all Group II and Group III air carriers and Group I air carriers with annual revenues of $20 million or more. Carriers shall submit Schedule P-2 in a format specified in accounting and reporting directives issued by the Bureau of Transportation Statistics' Director of Airline Information.

* * * * *

Section 25 [Amended]

12. In section 25 remove and reserve paragraph (b), remove Schedule T-100(f), and remove Appendix to Section 241.25 of CFR Part 241—Instructions To U.S. Air Carriers For Reporting Traffic And Capacity Data On Form 41 Schedule T-100.

PART 248—[AMENDED]

13. The authority citation for part 248 is revised to read as follows:

Authority: 49 U.S.C. 329 and chapters 41102, 41708, and 41709.

14. Amend § 248.2 by adding a new paragraph (c) to read as follows:

§ 248.2 Filing of audit reports.

* * * * *

(c) Carriers shall submit their audit reports or their statement that no audit was performed in a format specified in accounting and reporting directives issued by the Bureau of Transportation Statistics' Director of Airline Information.

* * * * *

PART 250—[AMENDED]

15. The authority citation for part 250 is revised to read as follows:

Authority: 49 U.S.C. 329 and chapters 41102, 41301, 41708, 41709, and 41712.

16. Amend § 250.10 by designating the existing test as paragraph (a) and adding paragraph (b) as to read follows:

§ 250.10 Report of passengers denied confirmed space.

* * * * *

(b) Reports required by this section shall be submitted to the Bureau of Transportation Statistics in a format specified in accounting and reporting directives issued by the Bureau of Transportation Statistics' Director of Airlines Information.

* * * * *

PART 291—[AMENDED]

17. The authority citation for part 291 is revised to read as follows:

Authority: 49 U.S.C. 329 and chapters 41103, 41708 and 41709.

18. In § 291.42, revise paragraph (a) (2) to read as follows:

§ 291.42 Section 41103 financial and traffic reporting.

(a) * * *

(2) Reports required by this section shall be submitted to the Bureau of Transportation Statistics in a format specified in accounting and reporting directives issued by the Bureau of Transportation Statistics' Director of Airline Information.

* * * * *

19. In § 291.45, revise paragraph (e) (2) to read as follows:

§ 291.45 BTS Schedule T-100, U.S. Air Carrier Traffic and Capacity by Nonstop Segment and On-Flight Market.

* * * * *

(e) * * *

(2) Carrier, Carrier entity code. Each air carrier shall report its name and entity code (a five digit code assigned by BTS that identifies both the air carrier and its entity) for its particular operations. The Office of Airline Information (OAI) will assign or confirm codes upon request. Such requests should be transmitted by e-mail to T100.Support@DOT.gov.

* * * * *

PART 298—[AMENDED]

20. The authority citation for part 298 is revised to read as follows:

Authority: 49 U.S.C. 329 and chapters 41102, 41708, and 41709.

21. In § 298.60, paragraph (c) is revised and paragraphs (d) and (e) are removed.

The revision reads as follows:

§ 298.60 General reporting instructions.

* * * * *

(c) Reports required by this section shall be submitted to the Bureau of Transportation Statistics in a format specified in accounting and reporting directives issued by the Bureau of Transportation Statistics' Director of Airline Information.

§ 298.61 [Amended]

22. In § 298.61, remove Appendix to § 298.61—Instructions to U.S. Air Carriers for Reporting Traffic and Capacity Data on Schedule T-100.

PART 385—[AMENDED]

23. The authority citation for part 385 is revised to read as follows:

Authority: 49 U.S.C. 329 and chapters 40101, 41101, 41301, and 41701.

24. In § 385.19, paragraph (f) is revised to read as follows:

§ 385.19 Authority of the Director, Office of Aviation Information, Bureau of Transportation Statistics.

* * * * *

(f) Grant or deny a request by an air carrier or foreign air carrier for an extension of a filing date for reports required by subchapters A and D of this chapter.

* * * * *

Issued in Washington, DC, on July 1, 2010.
Peter H. Appel,
Administrator, Research and Innovative Technology Administration.

Note: The following appendix will not appear in the Code of Federal Regulations.

DEPARTMENT OF TRANSPORTATION

BUREAU OF TRANSPORTATION STATISTICS

OFFICE OF AIRLINE INFORMATION

ACCOUNTING AND REPORTING DIRECTIVE

RESEARCH AND INNOVATIVE TECHNOLOGY ADMINISTRATION

No. 293 Issue Date: 6-23-2010 Effective Date: 10-1-2010

1. E-filing

This Accounting and Reporting Directive gives detailed instructions for the file format for submitting recurrent reports via a secured Web portal using a comma separated vales (CSV) of the already required data or a PDF file. CSV is a delimited data format that has fields/columns separated by the comma character and records/rows separated by new lines.

PART 241—Form T100

Traffic and Capacity Statistics Segment Report

REQUIREMENTS

RECORD DESCRIPTION: T100—Traffic and Capacity Statistics for Segment Report

Field description | Data type | Length | Comments | Sample data
Data Type | Character | 1 | One letter code (S) | S
Entity code | Character | 5 | Five character code assigned by DOT | 0A050
Year of Data | Numeric | 4 | Year (CCYY) | 2010
Month of Data | Numeric | 2 | Month (MM) | 03
Origin Airport | Character | 3 | Three letter OAG airport code | BWI
Destination Airport | Character | 3 | Three letter OAG airport code | LAS
Service Class | Character | 1 | One letter service class code: F, G, L, N, P, R, H | F
Segment Aircraft Type | Numeric | 3 | DOT assigned three numeric aircraft type code | 698
Segment Cabin Configuration | Numeric | 1 | One numeric aircraft cabin configuration code: 1,2,3,4 | 1
Segment Departures Performed | Numeric | 5 | Up to five numeric departures performed | 25
Segment Available Capacity | Numeric | 10 | Up to ten numeric, reported in pounds | 125000000
Segment Available Seats | Numeric | 7 | Up to seven numeric, aircraft seating capacity | 1250
Segment Passengers Transported | Numeric | 7 | Up to seven numeric, reported transported passengers | 922
Segment Freight Transported | Numeric | 10 | Up to ten numeric, freight reported in pounds | 25338
Segment Mail Transported | Numeric | 10 | Up to ten numeric, mail reported in pounds | 989
Segment Scheduled Departures | Numeric | 5 | Up to five numeric scheduled departures | 23
Segment Ramp to Ramp Minutes | Numeric | 10 | Up to ten numeric, reported in minutes | 789
Segment Airborne Minutes | Numeric | 10 | Up to ten numeric, reported in minutes | 685

RECORD FORMAT:

The T100—Traffic and Capacity Statistics for Segment data reports must be created as an electronic “comma separated values” file, using ASCII text character encoding, for uploading via the “eSubmit” application.

The comma separated values file MUST BE indicated when naming the file, by using the letters [CSV] or [csv] following the file name, as the file name extension.

The file name is flexible and may be determined by the individual air carrier, but the comma separated values (csv) file format is required, as outlined in the rule entitled, Submitting Airline Data via the Internet.

The fields in the sample record shown below follow the same order as the above record description, separated by commas, and saved with the file name extension of .csv.

Suggested file name: XX201003-T100SEG.csv

Sample Record Format:

S,0A050,2010,03,BWI,LAS,F,698,1,25,12500000,1250,922,25338,989,23,789,685

PART 217—T100(f) Certification

REQUIREMENTS

RECORD DESCRIPTION/INSTRUCTIONS: T100(f) Certification

A certification statement is required identifying an appropriate official of the reporting carrier. The certification statement will read:

Carrier Name:

Address:

Homeland:

(Homeland is the name of the country under the laws of which air carrier organized.)

Carrier Code:

Report Date (Year/Month):

I, the undersigned, do certify that this report has been prepared under my direction in accordance with the regulations in 14CFR Part 217. I affirm that, to the best of my knowledge and belief, this is a true, correct and complete report.

Date:

Signature:

Name (Please Print or Type):

Title:

Telephone Number:

Name of Person Who Prepared Report:

Telephone Number:

E-mail Address:

RECORD FORMAT:

Once signed, the T100(f) Certification must be published as an electronic “portable document format” file format, for uploading to the eSubmit application.

The portable document format file MUST BE indicated when naming the file, by using the letters [PDF] or [pdf] following the file name, as the file name extension. You must have Adobe Reader software downloaded on your computer in order to “save as/print” your document as a “pdf” file.

While the file name is flexible and may be determined by the individual air carrier, the portable document format (pdf) file format is required, as outlined in the rule entitled, Submitting Airline Data via the Internet.

Suggested file name: XXX201003-217T100fCert.pdf

PART 217—T100 (f) Foreign Air Carrier Traffic Data

REQUIREMENTS

RECORD DESCRIPTION: T100 (f) Foreign Air Carrier Traffic Data

Field description | Data type | Length | Comments | Sample data
Carrier Code | Character | 3 | 2 or 3 digit Carrier Code | BA
Year and Month of Data | Numeric | 6 | Format: YYYYMM YYYY = century and year; Format: MM: 01 = January 12 = December | 200612
Origin Airport | Character | 3 | The three letter OAG code identifying the airport. | IAH
Destination Airport | Character | 3 | The three letter OAG code identifying the airport. | LGW
Service Class | Character | 1 | One letter service class code: F, G, L, N, P, R, H | F
Segment Aircraft Type and Cabin Configuration | Number | 4 | The 1st 3 characters identify the type of aircraft used on the non-stop segment. | 6271
|  |  | The 4th character is used to identify the type of cabin configuration: |
|  |  | 1—Passenger
|  |  | 2—Cargo
|  |  | 3—Passenger/Cargo
Segment Departures Performed | Number | Up to 5 | Up to five numeric Revenue departures performed | 49
Segment Passengers | Number | Up to 10 | Up to seven numeric, reported transported passengers | 6707
Segment Freight | Number | Up to 10 | Up to ten numeric, freight reported in kilos | 521842
Segment Available Seats | Number | Up to 7 | Up to seven numeric, aircraft seating capacity | 10976
Segment Available Capacity | Number | Up to 10 | Up to ten numeric, reported in kilos | 1903195
Market Passengers | Number | Up to 10 | Up to seven numbers Enplaned passengers | 6707
Market Freight | Number | Up to 10 | Up to ten numbers, reported in kilos | 521842

RECORD FORMAT:

The T100(f) Foreign Air Carrier Traffic Data reports must be created as an electronic “comma separated values” file, using ASCII text character encoding, for uploading via the “eSubmit” application.

The comma separated values file MUST BE indicated when naming the file, by using the letters [CSV] or [csv] following the file name, as the file name extension.

The file name is flexible and may be determined by the individual air carrier, but the comma separated values (csv) file format is required, as outlined in the rule entitled, Submitting Airline Data via the Internet.

The fields in the sample record shown below follow the same order as the above record description, separated by commas, and saved with the file name extension of .csv.

Suggested file name: XXX201003-T100F.csv

Sample Record Format:

BA,200612,IAH,DTW,F,6261,30,1647,17137,5670,772500,0,0

BA,200612,IAH,LGW,F,6271,49,6707,521842,10976,1903195,6707,521842

BA,200612,IAH,LHR,F,0,0,0,0,0,0,1643,12935

PART 241—T100—Alaskan Air Carrier Weekly Traffic and Capacity Data Report

REQUIREMENTS

RECORD DESCRIPTION: T100—Alaskan Air Carrier Weekly Segment and Market Report

Field description | Data type | Length | Comments | Sample data
Data Type | Character | 1 | One letter code (S) | S
Entity code | Character | 5 | Five character code assigned by DOT | 06000
Year of Data | Numeric | 4 | Year (CCYY) | 2010
Month of Data | Numeric | 2 | Month (MM) | 05
Day of Service | Numeric | 2 | Day of month the service was performed—for use by USPS Only | 27
Origin Airport | Character | 3 | Three letter OAG airport code | FAI
Destination Airport | Character | 3 | Three letter OAG airport code | GAL
Service Class | Character | 1 | One letter service class code: F, G, L, N, P, R | F
Segment Aircraft Type | Numeric | 3 | DOT assigned three numeric aircraft type code | 405
Segment Cabin Configuration | Numeric | 1 | One numeric aircraft cabin configuration code: 1, 2, 3, 4 | 3
Segment Departures Performed | Numeric | 5 | Up to five numeric departures performed | 1
Segment Available Capacity | Numeric | 10 | Up to ten numeric, reported in pounds | 3793
Segment Available Seats | Numeric | 7 | Up to seven numeric, aircraft seating capacity | 16
Segment Passengers Transported | Numeric | 7 | Up to seven numeric, reported transported passengers | 3
Segment Freight Transported | Numeric | 10 | Up to ten numeric, freight reported in pounds | 239
Segment Mail Transported | Numeric | 10 | Up to ten numeric, mail reported in pounds | 1106
Segment Scheduled Departures | Numeric | 5 | Scheduled departures | 1
Segment Ramp-to-Ramp time | Numeric | 10 | Up to ten numeric, reported in minutes | 72
Segment Airborne time in minutes | Numeric | 10 | Up to ten numeric, reported in minutes | 60
DOT Certification | Numeric | 3 | Values are: 135, 121—for use by USPS Only | 121

RECORD FORMAT:

The T100—Alaskan Air Carrier Weekly Segment Report reports must be created as an electronic “comma separated values” file, using ASCII text character encoding, for uploading via the “eSubmit” application.

The comma separated values file MUST BE indicated when naming the file, by using the letters [CSV] or [csv] following the file name, as the file name extension.

The file name is flexible and may be determined by the individual air carrier, but the comma separated values (csv) file format is required, as outlined in the rule entitled, Submitting Airline Data via the Internet.

The fields in the sample record shown below follow the same order as the above record description, separated by commas, and saved with the file name extension of .csv.

Suggested file name: XX20100528-T100AKSEG.csv

Sample Record Format:

S,06000,2010,05,27,FAI,GAL,F,405,3,1,3793,16,3,239,1106,1,72,60,121

PART 241—T100-Alaskan Air Carrier Weekly Market Report

REQUIREMENTS

RECORD DESCRIPTION: T100—Alaskan Air Carrier Traffic and Capacity Data—On-Flight Market

Field description | Data type | Length | Comments | Sample data
Data Type | Character | 1 | One letter code (M) | M
Entity code | Character | 5 | Five character code assigned by DOT | 06000
Year of Data | Numeric | 4 | Year (CCYY) | 2010
Month of Data | Numeric | 2 | Month (MM) | 05
Day of Service | Numeric | 2 | Day of month the service was performed—for use by USPS Only | 27
Origin Airport | Character | 3 | Three letter OAG airport code | FAI
Destination Airport | Character | 3 | Three letter OAG airport code | GAL
Service Class | Character | 1 | One letter service class code: F, G, L, N, P, R | F
Market Passengers enplaned | Numeric | 7 | Up to seven numeric, reported market passengers | 3
Market Freight Enplaned | Numeric | 10 | Up to ten numeric, reported in pounds | 239
Market Mail Enplaned | Numeric | 10 | Up to ten numeric, reported in pounds | 1000

RECORD FORMAT:

The T100—Alaskan Air Carrier Weekly Market Report reports must be created as an electronic “comma separated values” file, using ASCII text character encoding, for uploading via the “eSubmit” application.

The comma separated values file MUST BE indicated when naming the file, by using the letters [CSV] or [csv] following the file name, as the file name extension.

The file name is flexible and may be determined by the individual air carrier, but the comma separated values (csv) file format is required, as outlined in the rule entitled, Submitting Airline Data via the Internet.

The fields in the sample record shown below follow the same order as the above record description, separated by commas, and saved with the file name extension of .csv.

Suggested file name: XX201003-T100AKMKT.csv

Sample Record Format:

M,06000,2010,05,27,FAI,GAL,F,3,239,1000

PART 241—U.S. Carrier Origin-Destination Survey Transmittal Letter

REQUIREMENTS

RECORD DESCRIPTION/INSTRUCTIONS: Origin-Destination Survey Transmittal Letter—U.S. Carriers

Full name of airline:

Reporting period:

A certification statement for the Origin and Destination Survey Report is required identifying an appropriate official of the reporting carrier. This statement certifies that:

I ___________________,

(Name)

and __________________,

(Title)

of the above named carrier, certify that the information in this transmittal letter is to the best of my knowledge and belief, true, correct and a complete report for the period stated.

Total Number of records:

Total Number of passengers:

Date:

Signature:

Name (Please Print or Type):

RECORD FORMAT:

Once signed, the Origin-Destination Survey Transmittal Letter must be published as an electronic “portable document format” file format, for uploading to the eSubmit application.

The portable document format file MUST BE indicated when naming the file, by using the letters [PDF] or [pdf] following the file name, as the file name extension. You must have Adobe Reader software downloaded on your computer in order to “save as/print” your document as a ‘pdf’ file.

While the file name is flexible and may be determined by the individual air carrier, the portable document format (pdf) file format is required, as outlined in the rule entitled, Submitting Airline Data via the Internet.

File name: XX201003-ONDtransmittal.pdf

NOTE:

XX = Carrier 2 letter code

2010 = Year of report

03 = Quarter of report (First Quarter) 06 = (Second Quarter) 09 = (Third Quarter) 12 = (Fourth Quarter)

PART 241—Foreign Carrier Origin-Destination Survey Transmittal Letter

REQUIREMENTS

RECORD DESCRIPTION/INSTRUCTIONS: Origin-Destination Survey Transmittal Letter—Foreign Carriers

Full name of airline:

Reporting period:

A certification statement for the Origin and Destination Survey Report is required identifying an appropriate official of the reporting carrier. This statement certifies that:

I ___________________,

(Name)

and __________________,

(Title)

of the above named carrier, certify that the information in this transmittal letter is to the best of my knowledge and belief, true, correct and a complete report for the period stated.

Total Number of records:

Total Number of passengers:

Date:

Signature:

Name (Please Print or Type):

RECORD FORMAT:

Once signed, the Origin-Destination Survey Transmittal Letter must be published as an electronic “portable document format” file format, for uploading to the eSubmit application.

The portable document format file MUST BE indicated when naming the file, by using the letters [PDF] or [pdf] following the file name, as the file name extension. You must have Adobe Reader software downloaded on your computer in order to “save as/print” your document as a ‘pdf’ file.

While the file name is flexible and may be determined by the individual air carrier, the portable document format (pdf) file format is required, as outlined in the rule entitled, Submitting Airline Data via the Internet.

File name: XX201003-FONDtransmittal.pdf

NOTE:

XX = Carrier 2 letter code

2010 = Year of report

03 = Quarter of report (First Quarter), 06 = (Second Quarter), 09 = (Third Quarter), and 12 = (Fourth Quarter).

PART 241—Passenger Origin-Destination Survey Report

REQUIREMENTS

RECORD DESCRIPTION: Origin-Destination Survey Report—U.S. Carriers

Field description | Data type | Length | Comments | Sample data
Carrier code | Character | 2 | IATA code | XX
Year | Numeric | 3 | Date: YYQ | 094
|  |  | Where ‘09’ = Year: 2009, Quarter: 4 |
Fare | Numeric | variable | Value of the ticket in whole U.S. dollars($) | 4913
Passenger Count | Numeric | variable |  | 3
1st Airport Code | Character | 3 | 1st Airport Code is the 3 letter code for the first Origin airport | BOS
1st Operating Carrier | Character | 2 | IATA Carrier Code | IO
1st Ticketed Carrier | Character | 2 | IATA Carrier Code | XX
1st Fare Basis Code | Character | 1 | C—Unrestricted Business Class D—Restricted Business Class F—Unrestricted First Class G—Restricted First Class X—Restricted Coach Y—Unrestricted Coach U—Unknown | G
2nd Airport Code | Character | 3 | 2nd Airport Code is the 3 letter code for the first destination airport | LAX
2nd Operating Carrier | Character | 2 |  | VA
2nd Ticketed Carrier | Character | 2 |  | VA
2nd Fare Basis Code | Character | 1 |  | G
3rd Airport Code |  |  | 3rd Airport Code is the 3 letter code for the second destination airport | SYD
3rd Operating Carrier | Character | 2 | Surface Segment Indicator—for Operating Carrier. |
3rd Ticketed Carrier | Character | 2 | Surface Segment Indicator—for Ticketed Carrier |
3rd Fare Basis Code | Character | 1 | For surface travel segment, leave the Fare Basis Code blank |
4th Airport Code | Character | 3 | 4th Airport Code is the 3 letter code for the third destination airport | CNS
4th Operating Carrier | Character | 2 |  | DJ
4th Ticketed Carrier | Character | 2 |  | VA
4th Fare Basis Code | Character | 1 |  | G
5th Airport Code | Character | 3 | 5th Airport Code is the 3 letter code for the fourth destination airport | BNE
5th Operating Carrier | Character | 2 |  | VA
5th Ticketed Carrier | Character | 2 |  | VA
5th Fare Basis Code | Character | 1 |  | G
6th Airport Code | Character | 3 | 6th Airport Code is the 3 letter code for the fifth destination airport | LAX
6th Operating Carrier | Character | 2 |  | IO
6th Ticketed Carrier | Character | 2 |  | IO
6th Fare Basis Code | Character | 1 |  | G
7th Airport Code | Character | 3 | 7th Airport Code is the 3 letter code for the sixth destination airport. | BOS
7th Operating Carrier | Character | 2 |  | OH
7th Ticketed Carrier | Character | 2 |  | DL
7th Fare Basis Code | Character | 1 |  | G
8th Airport Code | Character | 3 | 8th Airport Code is the 3 letter code for the seventh destination airport, and in this example, the final destination for this ticket | DCA
8th Operating Carrier | Character | 2 | If 23 coupons have to be recorded, then the format continues as follows: | EV
8th Ticketed Carrier | Character | 2 |  | DL
8th Fare Basis Code | Character | 1 |  | X
9th Airport Code | Character | 3 | 9th Airport Code is the 3 letter code for the eighth destination airport, and in this example, the final destination for this ticket | CLT
9th Operating Carrier | Character | 2 |  | YV
9th Ticketed Carrier | Character | 2 |  | YV
9th Fare Basis Code | Character | 1 |  | X
10th Airport Code | Character | 3 | 10th Airport Code is the 3 letter code for the ninth destination airport, and in this example, the final destination for this ticket | ATL
10th Operating Carrier | Character | 2 |  | FL
10th Ticketed Carrier | Character | 2 |  | FL
10th Fare Basis Code | Character | 1 |  | Y
11th Airport Code | Character | 3 | 11th Airport Code is the 3 letter code for the tenth destination airport, and in this example, the final destination for this ticket | MIA
11th Operating Carrier | Character | 2 |  | MQ
11th Ticketed Carrier | Character | 2 |  | AA
11th Fare Basis Code | Character | 1 |  | G
12th Airport Code | Character | 3 | 12th Airport Code is the 3 letter code for the eleventh destination airport, and in this example, the final destination for this ticket | FLL
12th Operating Carrier | Character | 2 |  | NK
12th Ticketed Carrier | Character | 2 |  | NK
12th Fare Basis Code | Character | 1 |  | X
13th Airport Code | Character | 3 | 13th Airport Code is the 3 letter code for the twelfth destination airport, and in this example, the final destination for this ticket | FMY
13th Operating Carrier | Character | 2 |  | NK
13th Ticketed Carrier | Character | 2 |  | NK
13th Fare Basis Code | Character | 1 |  | X
14th Airport Code | Character | 3 | 14th Airport Code is the 3 letter code for the thirteenth destination airport, and in this example, the final destination for this ticket | ATL
14th Operating Carrier | Character | 2 |  | EV
14th Ticketed Carrier | Character | 2 |  | DL
14th Fare Basis Code | Character | 1 |  | Y
15th Airport Code | Character | 3 | 15th Airport Code is the 3 letter code for the fourteenth destination airport, and in this example, the final destination for this ticket | LAS
15th Operating Carrier | Character | 2 |  | SY
15th Ticketed Carrier | Character | 2 |  | SY
15th Fare Basis Code | Character | 1 |  | Y
16th Airport Code | Character | 3 | 16th Airport Code is the 3 letter code for the fifteenth destination airport, and in this example, the final destination for this ticket | SAN
16th Operating Carrier | Character | 2 |  | XE
16th Ticketed Carrier | Character | 2 |  | CO
16th Fare Basis Code | Character | 1 |  | Y
17th Airport Code | Character | 3 | 17th Airport Code is the 3 letter code for the sixteenth destination airport, and in this example, the final destination for this ticket | MEX
17th Operating Carrier | Character | 2 |  | AM
17th Ticketed | Character | 2 |  | MX
17th Fare Basis Code | Character | 1 |  | Y
18th Airport Code | Character | 3 | 18th Airport Code is the 3 letter code for the seventeenth destination airport, and in this example, the final destination for this ticket | LIM
18th Operating Carrier | Character | 2 |  | AA
18th Ticketed Carrier | Character | 2 |  | AA
18th Fare Basis Code | Character | 1 |  | Y
19th Airport Code | Character | 3 | 19th Airport Code is the 3 letter code for the eighteenth destination airport, and in this example, the final destination for this ticket | MEX
19th Operating Carrier | Character | 2 |  | MX
19th Ticketed Carrier | Character | 2 |  | MX
19th Fare Basis Code | Character | 1 |  | Y
20th Airport Code | Character | 3 | 20th Airport Code is the 3 letter code for the nineteenth destination airport, and in this example, the final destination for this ticket | LAX
20th Operating Carrier | Character | 2 |  | AA
20th Ticketed Carrier | Character | 2 |  | AA
20th Fare Basis Code | Character | 1 |  | G
21st Airport Code | Character | 3 | 21st Airport Code is the 3 letter code for the twentieth destination airport, and in this example, the final destination for this ticket | PDX
21st Operating Carrier | Character | 2 |  | QX
21st Ticketed Carrier | Character | 2 |  | AS
21st Fare Basis Code | Character | 1 |  | G
22nd Airport Code | Character | 3 | 22nd Airport Code is the 3 letter code for the twenty-first destination airport, and in this example, the final destination for this ticket | ANC
22nd Operating Carrier | Character | 2 |  | NW
22nd Ticketed Carrier | Character | 2 |  | AS
22nd Fare Basis Code | Character | 1 |  | Y
23rd Airport Code | Character | 3 | 23rd Airport Code is the 3 letter code for the twenty-second destination airport, and in this example, the final destination for this ticket | BNE
23rd Operating Carrier | Character | 2 |  | VA
23rd Ticketed Carrier | Character | 2 |  | VA
23rd Fare Basis Code | Character | 1 |  | G
24th Airport Code | Character | 3 | 24th Airport Code is the 3 letter code for the twenty-third destination airport, and in this example, the final destination for this ticket | SYD

RECORD FORMAT:

The Origin-Destination Survey reports must be created as an electronic “comma separated values” file, using ASCII text character encoding, for uploading via the “eSubmit” application.

The comma separated values file MUST BE indicated when naming the file with file extension [CSV] or [csv] following the file name.

The file name is flexible and may be determined by the individual air carrier, but the comma separated values (csv) file format is required, as outlined in the rule entitled, Submitting Airline Data via the Internet.

The fields in the sample record shown below follow the same order as the above record description, separated by commas, and saved with the file name extension of .csv.

Suggested file name: XX201003-OND.csv

Sample Record Format:

XX,94,4913,1,BOS,IO,XX,G,LAX,VA,VA,G,SYD,—,—,,CNS,DJ,VA,G,BNE,VA,VA,G,LAX,IO,IO,G,BOS

NOTE: The second itinerary in the sample record format above indicates a surface segment between SYD and CNS. The —,—,, indicate the positions the two carriers and fare code would have occupied had there been air transportation between the two airports.

PART 241—Passenger Origin-Destination Survey Report

REQUIREMENTS

RECORD DESCRIPTION: Origin-Destination Survey Report—Foreign Carriers

Field description | Data type | Length | Comments | Sample data
Carrier code | Character | 2 | IATA code | XX
Year | Numeric | 3 | Date: YYQ |
|  |  | Where `09' = Year: 2009 Quarter: 4 | 094
Fare | Numeric | variable | Value of the ticket in whole U.S. dollars($) | 1234
Passenger Count | Numeric | variable |  | 3
1st Airport Code | Character | 3 | 1st Airport Code is the 3 letter code for the first Origin airport | BOS
1st Operating Carrier | Character | 2 | IATA Carrier Code | IO
1st Ticketed Carrier | Character | 2 | IATA Carrier Code | XX
1st Fare Basis Code | Character | 1 | C—Unrestricted Business Class D—Restricted Business Class F—Unrestricted First Class G—Restricted First Class X—Restricted Coach Y—Unrestricted Coach U—Unknown | G
2nd Airport Code | Character | 3 | 2nd Airport Code is the 3 letter code for the first destination airport | LAX
2nd Operating Carrier | Character | 2 |  | VA
2nd Ticketed Carrier | Character | 2 |  | VA
2nd Fare Basis Code | Character | 1 |  | G
3rd Airport Code |  |  | 3rd Airport Code is the 3 letter code for the second destination airport | SYD
3rd Operating Carrier | Character | 2 | Surface Segment Indicator—for Operating Carrier |
3rd Ticketed Carrier | Character | 2 | Surface Segment Indicator—for Ticketed Carrier |
3rd Fare Basis Code | Character | 1 | For surface travel segment |
4th Airport Code | Character | 3 | 4th Airport Code is the 3 letter code for the third destination airport | CNS
4th Operating Carrier | Character | 2 |  | DJ
4th Ticketed Carrier | Character | 2 |  | VA
4th Fare Basis Code | Character | 1 |  | G
5th Airport Code | Character | 3 | 5th Airport Code is the 3 letter code for the fourth destination airport | BNE
5th Operating Carrier | Character | 2 |  | VA
5th Ticketed Carrier | Character | 2 |  | VA
5th Fare Basis Code | Character | 1 |  | G
6th Airport Code | Character | 3 | 6th Airport Code is the 3 letter code for the fifth destination airport | LAX
6th Operating Carrier | Character | 2 |  | IO
6th Ticketed Carrier | Character | 2 |  | IO
6th Fare Basis Code | Character | 1 |  | G
7th Airport Code | Character | 3 | 7th Airport Code is the 3 letter code for the sixth destination airport and in this example, the final destination for this ticket | BOS
8th Airport Code | Character | 3 | 8th Airport Code is the 3 letter code for the seventh destination airport, and in this example, the final destination for this ticket | DCA
8th Operating Carrier | Character | 2 | If 23 coupons have to be recorded, then the format continues as follows: | EV
8th Ticketed Carrier | Character | 2 |  | DL
8th Fare Basis Code | Character | 1 |  | X
9th Airport Code | Character | 3 | 9th Airport Code is the 3 letter code for the eighth destination airport, and in this example, the final destination for this ticket | CLT
9th Operating Carrier | Character | 2 |  | YV
9th Ticketed Carrier | Character | 2 |  | YV
9th Fare Basis Code | Character | 1 |  | X
10th Airport Code | Character | 3 | 10th Airport Code is the 3 letter code for the ninth destination airport, and in this example, the final destination for this ticket | ATL
10th Operating Carrier | Character | 2 |  | FL
10th Ticketed Carrier | Character | 2 |  | FL
10th Fare Basis Code | Character | 1 |  | Y
11th Airport Code | Character | 3 | 11th Airport Code is the 3 letter code for the tenth destination airport, and in this example, the final destination for this ticket | MIA
11th Operating Carrier | Character | 2 |  | MQ
11th Ticketed Carrier | Character | 2 |  | AA
11th Fare Basis Code | Character | 1 |  | G
12th Airport Code | Character | 3 | 12th Airport Code is the 3 letter code for the eleventh destination airport, and in this example, the final destination for this ticket | FLL
12th Operating Carrier | Character | 2 |  | NK
12th Ticketed Carrier | Character | 2 |  | NK
12th Fare Basis Code | Character | 1 |  | X
13th Airport Code | Character | 3 | 13th Airport Code is the 3 letter code for the twelfth destination airport, and in this example, the final destination for this ticket | FMY
13th Operating Carrier | Character | 2 |  | NK
13th Ticketed Carrier | Character | 2 |  | NK
13th Fare Basis Code | Character | 1 |  | X
14th Airport Code | Character | 3 | 14th Airport Code is the 3 letter code for the thirteenth destination airport, and in this example, the final destination for this ticket | ATL
14th Operating Carrier | Character | 2 |  | EV
14th Ticketed Carrier | Character | 2 |  | DL
14th Fare Basis Code | Character | 1 |  | Y
15th Airport Code | Character | 3 | 15th Airport Code is the 3 letter code for the fourteenth destination airport, and in this example, the final destination for this ticket | LAS
15th Operating Carrier | Character | 2 |  | SY
15th Ticketed Carrier | Character | 2 |  | SY
15th Fare Basis Code | Character | 1 |  | Y
16th Airport Code | Character | 3 | 16th Airport Code is the 3 letter code for the fifteenth destination airport, and in this example, the final destination for this ticket | SAN
16th Operating Carrier | Character | 2 |  | XE
16th Ticketed Carrier | Character | 2 |  | CO
16th Fare Basis Code | Character | 1 |  | y
17th Airport Code | Character | 3 | 17th Airport Code is the 3 letter code for the sixteenth destination airport, and in this example, the final destination for this ticket | MEX
17th Operating Carrier | Character | 2 |  | AM
17th Ticketed | Character | 2 |  | MX
17th Fare Basis Code | Character | 1 |  | Y
18th Airport Code | Character | 3 | 18th Airport Code is the 3 letter code for the seventeenth destination airport, and in this example, the final destination for this ticket | LIM
18th Operating Carrier | Character | 2 |  | AA
18th Ticketed Carrier | Character | 2 |  | AA
18th Fare Basis Code | Character | 1 |  | y
19th Airport Code | Character | 3 | 19th Airport Code is the 3 letter code for the eighteenth destination airport, and in this example, the final destination for this ticket | MEX
19th Operating Carrier | Character | 2 |  | MX
19th Ticketed Carrier | Character | 2 |  | MX
19th Fare Basis Code | Character | 1 |  | Y
20th Airport Code | Character | 3 | 20th Airport Code is the 3 letter code for the nineteenth destination airport, and in this example, the final destination for this ticket | LAX
20th Operating Carrier | Character | 2 |  | AA
20th Ticketed Carrier | Character | 2 |  | AA
20th Fare Basis Code | Character | 1 |  | G
21st Airport Code | Character | 3 | 21st Airport Code is the 3 letter code for the twentieth destination airport, and in this example, the final destination for this ticket | PDX
21st Operating Carrier | Character | 2 |  | QX
21st Ticketed Carrier | Character | 2 |  | AS
21st Fare Basis Code | Character | 1 |  | G
22nd Airport Code | Character | 3 | 22nd Airport Code is the 3 letter code for the twenty-first destination airport, and in this example, the final destination for this ticket | ANC
22nd Operating Carrier | Character | 2 |  | NW
22nd Ticketed Carrier | Character | 2 |  | AS
22nd Fare Basis Code | Character | 1 |  | Y
23rd Airport Code | Character | 3 | 23rd Airport Code is the 3 letter code for the twenty-second destination airport, and in this example, the final destination for this ticket | BNE
23rd Operating Carrier | Character | 2 |  | VA
23rd Ticketed Carrier | Character | 2 |  | VA
23rd Fare Basis Code | Character | 1 |  | G
24th Airport Code | Character | 3 | 24th Airport Code is the 3 letter code for the twenty-third destination airport, and in this example, the final destination for this ticket | SYD

RECORD FORMAT:

The Origin-Destination Survey reports must be created as an electronic “comma separated values” file, using ASCII text character encoding, for uploading via the “eSubmit” application.

The comma separated values file MUST BE indicated when naming the file with file extension [CSV] or [csv] following the file name.

The file name is flexible and may be determined by the individual air carrier, but the comma separated values (csv) file format is required, as outlined in the rule entitled, Submitting Airline Data via the Internet.

The fields in the sample record shown below follow the same order as the above record description, separated by commas, and saved with the file name extension of .csv.

Suggested file name: XX201003-FOND.csv

Sample Record Format:

XX,94,1234,1,BOS,IO,XX,G,LAX,VA,VA,G,SYD,—,—,,CNS,DJ,VA,G,BNE,VA,VA,G,LAX,IO,IO,G,BOS

NOTE:

The second itinerary in the sample record format above indicates a surface segment between SYD and CNS. The —,—,, indicate the positions where the ticketing carrier, the operating carrier, and the fare basis code information would have been entered had there been air transportation between the two airports.

PART 234—ASQP—On-Time Data

REQUIREMENTS

RECORD DESCRIPTION: ASQP—Monthly On-Time Data

Field description | Data type | Length | Comments | Sample data
Carrier code | Character | 2 | IATA code | XX
Flight number | Character | 4 |  | 1234
Origin airport code | Character | 3 | Airport code | DFW
Destination airport code | Character | 3 | Airport code | BNA
Date of flight operation | DATE | ccyymmdd | Year (CCYY) | 20100301
Day of the week of flight operation | Numeric | 1 | Mon = 1, Sun = 7 | 1
Scheduled departure time as shown in Official Airline Guide (OAG) | Numeric | 4 | 24 hour clock | 0735
Scheduled departure time as shown in CRS | Numeric | 4 | 24 hour clock | 0735
Gate departure time (actual) | Numeric | 4 | 24 hour clock | 0737
Scheduled arrival time | Numeric | 4 | 24 hour clock | 0915
Scheduled arrival time per CRS | Numeric | 4 | 24 hour clock | 0915
Gate arrival time (actual) | Numeric | 4 | 24 hour clock | 1148
Difference between OAG and CRS scheduled departure times | Numeric | 4 | In minutes—G minus H (2 hours = 120 min) | 0
Difference between OAG and CRS scheduled arrival times | Numeric | 4 | In minutes—J minus K | 0
Scheduled elapsed time | Numeric | 4 | In minutes—K minus H | 100
Gate-to-Gate Time | Numeric | 4 | In minutes—L minus I | 251
Departure delay time (actual minutes CRS) | Numeric | 4 | In minutes—I minus H | 2
Arrival delay time (actual minutes CRS) | Numeric | 4 | In minutes—L minus K | 153
Elapsed time difference (actual minutes CRS) | Numeric | 4 | In minutes—P minus O | 151
Wheels-off time (actual) | Numeric | 4 | 24 hour clock | 0753
Wheels-on time (actual) | Numeric | 4 | 24 hour clock | 1141
Aircraft tail number | Character | 6 |  | N123XX
Cancellation code | Character | 1 | Values are A, B, C, D |
Minutes late for Delay Code E—Carrier Caused | Numeric | 4 | In minutes |
Minutes late for Delay Code F—Weather | Numeric | 4 | In minutes |
Minutes late for Delay Code G—National Aviation System (NAS) | Numeric | 4 | In minutes |
Minutes late for Delay Code H—Security | Numeric | 4 | In minutes |
Minutes late for Delay Code I—Late Arriving Flight (Initial) | Numeric | 4 | In minutes |
First gate departure time (actual) | Numeric | 4 | 24 hour clock |
Total ground time away from gate | Numeric | 4 | In minutes |
Longest ground time away from gate | Numeric | 4 | In minutes |
Number of landings at diverted airports | Numeric | 1 | 1 to 5 for diversions, 9 designates a fly return canceled flight | 1
Diverted airport code 1 | Character | 3 | Airport code | MEM
Wheels-on time at diverted airport | Numeric | 4 | 24 hour clock | 1005
Total ground time away from gate at diverted airport | Numeric | 4 | In minutes | 69
Longest ground time away from gate at diverted airport | Numeric | 4 | In minutes | 69
Wheels-off time (actual) at diverted airport | Numeric | 4 | 24 hour clock | 1114
Aircraft tail number | Character | 6 |  | N234XX
Diverted airport code 2 | Character | 3 | Airport code |
Wheels-on time at diverted airport | Numeric | 4 | 24 hour clock |
Total ground time away from gate at diverted airport | Numeric | 4 | In minutes |
Longest ground time away from gate at diverted airport | Numeric | 4 | In minutes |
Wheels-off time (actual) at diverted airport | Numeric | 4 | 24 hour clock |
Aircraft tail number | Character | 6 |  |
Diverted airport code 3 | Character | 3 | Airport code |
Wheels-on Time at Diverted Airport | Numeric | 4 | 24 hour clock |
Total ground time away from gate at diverted airport | Numeric | 4 | In minutes |
Longest ground time away from gate at diverted airport | Numeric | 4 | In minutes |
Wheels-off time (actual) at diverted airport | Numeric | 4 | 24 hour clock |
Aircraft tail number | Character | 6 |  |
Diverted airport code 4 | Character | 3 | Airport code |
Wheels-on time at diverted airport | Numeric | 4 | 24 hour clock |
Total ground time away from gate at diverted airport | Numeric | 4 | In minutes |
Longest ground time away from gate at diverted airport | Numeric | 4 | In minutes |
Wheels-off time (actual) at diverted airport | Numeric | 4 | 24 hour clock |
Aircraft tail number | Character | 6 |  |
Diverted airport code 5 | Character | 3 | Airport code |
Wheels-on time at diverted airport | Numeric | 4 | 24 hour clock |
Total ground time away from gate at diverted airport | Numeric | 4 | In minutes |
Longest ground time away from gate at diverted airport | Numeric | 4 | In minutes |
Wheels-off time (actual) at diverted airport | Numeric | 4 | 24 hour clock |
Aircraft tail number | Character | 6 |  |

RECORD FORMAT:

The ASQP—On Time Data reports must be created as an electronic “comma separated values” file, using ASCII text character encoding, for uploading via the “eSubmit” application.

The comma separated values file MUST BE indicated when naming the file, by using the letters [CSV] or [csv] following the file name, as the file name extension.

The file name is flexible and may be determined by the individual air carrier, but the comma separated values (csv) file format is required, as outlined in the rule entitled, Submitting Airline Data via the Internet.

The fields in the sample record shown below follow the same order as the above record description, separated by commas, and saved with the file name extension of .csv.

Suggested file name: XX201003-234ontime.csv

Sample Record Format:

XX,1234,DFW,BNA,20100301,1,0735,0735,0737,0915,0915,1148,0,0,100,251,2,153,151,0753,1141,N123XX,,,,,,,,,,1,MEM,1005,69,69,1114,N234XX,,,,,,,,,,,,,,,,,,,,,,,,,

PART 234—ASQP—On-Time Data Transmittal

REQUIREMENTS

RECORD DESCRIPTION/INSTRUCTIONS: ASQP—On-Time Data Transmittal Letter

The transmittal letter must identify the carrier and month and year for which the On-Time Data are being submitted, and contain the following information:

A certification statement identifying an appropriate official of the reporting carrier. The certification statement will read:

I, (Name) and (Title), of the above-named air carrier, certify that the BTS Form 234 “On-Time Flight Performance Report” is to the best of my knowledge and belief, true, correct, and a complete report for the period stated.

Date:

Signature:

Name (Please Print or Type):

The name(s) and telephone number(s) of the carrier's staff who can be contacted to resolve problems regarding both carrier data and technical matters.

For control purposes, a statement indicating the total number of flight operations and unique flight numbers in the Form 234 submission.

For the initial submission, a description of the data submitted, specifying whether the eSubmit file includes data for only reportable airports or for all domestic scheduled nonstop flight operations.

For the initial submission and for subsequent changes, a statement identifying the source of the scheduled arrival and departure times used in the report: (1) Official Airline Guide in effect on (date) and (2) the name of the computer reservation system used for reporting purposes, pursuant to § 234.4(f).

RECORD FORMAT:

Once signed, the On-Time Data Transmittal Letter must be published as an electronic “portable document format” file format, for uploading to the eSubmit application.

The portable document format file MUST BE indicated when naming the file, by using the letters [PDF] or [pdf] following the file name, as the file name extension. You must have Adobe Reader software downloaded on your computer in order to “save as/print” your document as a `pdf' file.

While the file name is flexible and may be determined by the individual air carrier, the portable document format (pdf) file format is required, as outlined in the rule entitled, Submitting Airline Data via the Internet.

Suggested file name: XX201003-234transmittal.pdf

PART 234—ASQP—Mishandled Baggage Report

REQUIREMENTS

RECORD DESCRIPTION: ASQP—Mishandled Baggage Report

Field description | Data type | Length | Comments | Sample data
Carrier code | Character | 2 | Two letter IATA code | XX
Year of Data | Numeric | 4 | Year (CCYY) | 2010
Month of Data | Numeric | 2 | Month (MM) | 03
Number of Domestic Scheduled Passengers Enplaned | Numeric | Varies |  | 8004000
Number of Mishandled Baggage Reports Filed with Carrier | Numeric | Varies |  | 35000

RECORD FORMAT:

The ASQP—Mishandled Baggage reports must be created as an electronic “comma separated values” file, using ASCII text character encoding, for uploading via the “eSubmit” application.

The comma separated values file MUST BE indicated when naming the file, by using the letters [CSV] or [csv] following the file name, as the file name extension.

The file name is flexible and may be determined by the individual air carrier, but the comma separated values (csv) file format is required, as outlined in the rule entitled, Submitting Airline Data via the Internet.

The fields in the sample record shown below follow the same order as the above record description, separated by commas, and saved with the file name extension of .csv.

Suggested file name: XX201003-234mbr.csv

Sample Record Format:

XX,2010,03,8004000,35000

PART 234—Mishandled Baggage Report Certification

REQUIREMENTS

RECORD DESCRIPTION/INSTRUCTIONS: ASQP—Mishandled Baggage Report Certification

A certification statement for the Mishandled Baggage Report is required identifying an appropriate official of the reporting carrier. The certification statement will read:

I, (Name) and (Title), of the above named carrier, certify that the Mishandled Baggage Report file is to the best of my knowledge and belief, true, correct and a complete report for the period stated.

Date:

Signature:

Name (Please Print or Type):

RECORD FORMAT:

Once signed, the Mishandled Baggage Report Certification must be published as an electronic “portable document format” file format, for uploading to the eSubmit application.

The portable document format file MUST BE indicated when naming the file, by using the letters [PDF] or [pdf] following the file name, as the file name extension. You must have Adobe Reader software downloaded on your computer in order to “save as/print” your document as a `pdf' file.

While the file name is flexible and may be determined by the individual air carrier, the portable document format (pdf) file format is required, as outlined in the rule entitled, Submitting Airline Data via the Internet.

Suggested file name: XX201003-234mbrCert.pdf

PART 251—Report of Passengers Denied Confirmed Space Report

REQUIREMENTS

RECORD DESCRIPTION: 251—Report of Passengers Denied Confirmed Space Report

Field description | Data type | Length | Comments | Sample data
Carrier Name | Character | 30 |  | Atlantic Southeast
OAG Carrier Code | Character | 2 | Two Letter Code | EV
Quarter Ended | Character | 6 | Quarter/Year | 3Q2010
Number of passengers who were denied boarding involuntarily who qualified for denied boarding compensation and: | Numeric | Varies |  | 1177
(a) were given alternate transportation within the meaning of § 250.5.
(b) were not given such alternate transportation. | Numeric | Varies |  | 1358
Number of passengers denied boarding involuntarily who did not qualify for denied boarding compensation due to: | Numeric | Varies |  | 0
(a) accommodation on another flight that arrived within 1 hour after the scheduled arrival time of the original flight.
(b) substitution of smaller capacity equipment. | Numeric | Varies |  | 0
(c) failure of passenger to comply with ticketing, check-in, or reconfirmation procedures, or to be acceptable for transportation under carrier's tariff or contract of carriage. | Numeric | Varies |  | 746
TOTAL NUMBER DENIED BOARDING INVOLUNTARILY | Numeric | Varies |  | 3281
Number of passengers denied boarding involuntarily who actually received compensation.* | Numeric | Varies | *If any passengers qualified for denied boarding compensation but were not offered compensation, attach a pdf statement as to the number of such passengers and an explanation of why the offer was not made. | 2535
Number of passengers who volunteered to give up reserved space in exchange for a payment of the carrier's choosing. | Numeric | Varies |  | 28566
Number of passengers accommodated in another section of the aircraft: (a) Upgrades. | Numeric | Varies |  | 0
(b) Downgrades. | Numeric | Varies |  | 0
Total Boardings. | Numeric | Varies |  | 25450773
Amount of compensation paid to passengers who: (a) were denied boarding involuntarily and were given alternate transportation within the meaning of § 250.5. | Currency | Varies |  | 407092
(b) were denied boarding involuntarily and were not given alternate transportation. | Currency | Varies |  | 480726
(c) volunteered for denied boarding. | Currency | Varies |  | 0

RECORD FORMAT:

The 251—Report of Passengers Denied Confirmed Space Report reports must be created as an electronic “comma separated values” file, using ASCII text character encoding, for uploading via the “eSubmit” application.

The comma separated values file MUST BE indicated when naming the file, by using the letters [CSV] or [csv] following the file name, as the file name extension.

The file name is flexible and may be determined by the individual air carrier, but the comma separated values (csv) file format is required, as outlined in the rule entitled, Submitting Airline Data via the Internet.

The fields in the sample record shown below follow the same order as the above record description, separated by commas, and saved with the file name extension of .csv.

Suggested file name: XX201003-Form251.csv

Sample Record Format:

Atlantic Southeast Airlines, EV,3Q2010,1177,1358,0,0,746,3281,2535,28566,0,0,25450773,407092,480726,0

Part 241—Form 41 P-1a Interim Operations Report

REQUIREMENTS

RECORD DESCRIPTION: P-1a Interim Operations Report—Group I+, II & III

Field description | Data type | Length | Comments | Sample data
Schedule Item | Character | 4 |  | P01A
Carrier Code | Character | 3 |  | 3Z
Entity Region | Character | 1 |  | D
Aircraft Type | Character | 4 | P-5.1, P-5.2 | 0000, 9999
Account Code | Character | 5 |  | 0014A, 10100
Frequency | Numeric | 1 |  | 2
Year | Character | 4 |  | 2010
Month | Character | 2 |  | 12
Gain or Loss | Numeric |  |  | 2282243, −5645

RECORD FORMAT:

The P-1a Interim Operations reports must be created as an electronic “comma separated values” file, using ASCII text character encoding, for uploading via the “eSubmit” application.

The comma separated values file MUST BE indicated when naming the file, by using the letters [CSV] or [csv] following the file name, as the file name extension.

The file name is flexible and may be determined by the individual air carrier, but the comma separated values (csv) file format is required, as outlined in the rule entitled, Submitting Airline Data via the Internet.

The fields in the sample record shown below follow the same order as the above record description, separated by commas, and saved with the file name extension of .csv.

Suggested file name: XX201003-F41-P-1a.csv

Sample Record Format:

P01A,YV,S,0000,39010,1,2010,06,-68401383

Part 241—Form 41 P-12a Fuel Cost and Consumption

REQUIREMENTS

RECORD DESCRIPTION: P-12a—Fuel Cost and Consumption Report—Group I+, II & III

Field description | Data type | Length | Comments | Sample data
Schedule Item | Character | 4 |  | P12A
Carrier Code | Character | 3 |  | 3Z
Entity Region | Character | 1 |  | D
Aircraft Type | Character | 4 | Reported on P-5.1, P-5.2 only | 0000
Account Code | Character | 5 |  | 0014A, 10100
Frequency | Numeric | 1 |  | 2
Year | Character | 4 |  | 2010
Month | Character | 2 |  | 12
Gain or Loss | Numeric |  |  | 2282243, −5645

RECORD FORMAT:

The P-12a—Fuel Cost and Consumption reports must be created as an electronic “comma separated values” file, using ASCII text character encoding, for uploading via the “eSubmit” application.

The comma separated values file MUST BE indicated when naming the file, by using the letters [CSV] or [csv] following the file name, as the file name extension.

The file name is flexible and may be determined by the individual air carrier, but the comma separated values (csv) file format is required, as outlined in the rule entitled, Submitting Airline Data via the Internet.

The fields in the sample record shown below follow the same order as the above record description, separated by commas, and saved with the file name extension of .csv.

Suggested file name: XX201003-F41-P-12A.csv

Sample Record Format:

P-12a Fuel Cost and Consumption

P12A,3Z,S,0000,0008A,1,2010,06,213786

P12A,3Z,S,0000,0008B,1,2010,06,2208410

P12A,3Z,S,0000,0008C,1,2010,06,820818

Account Code

A = Gallons

B = Cost

C = Gallons not Paid for

[FR Doc. 2010-16637 Filed 7-15-10; 8:45 am]

BILLING CODE 4910-HY-P